DEPARTMENT OF AGRICULTURE

Animal and Plant Health Inspection Service

[Docket No. 03-046-1]

Pigeonpea Pod Fly; Availability of an Environmental Assessment

AGENCY: Animal and Plant Health Inspection Service, USDA.

ACTION: Notice of availability and request for comments.

SUMMARY: We are advising the public that the Animal and Plant Health Inspection Service has prepared an environmental assessment relative to the control of pigeonpea pod fly, Melanagromyza obtusa (Malloch) (Diptera: Agromyzidae). The environmental assessment documents our review and analysis of environmental impacts associated with alternatives for control of pigeonpea pod fly, as well as a recommendation for the use of biological control agents to suppress pigeonpea pod fly in the United States. We are making this environmental assessment available to the public for review and comment.

DATES: We will consider all comments that we receive on or before June 23, 2003.

ADDRESSES: You may submit comments by postal mail/commercial delivery or by e-mail. If you use postal mail/commercial delivery, please send four copies of your comment (an original and three copies) to: Docket No. 03-046-1, Regulatory Analysis and Development, PPD, APHIS, Station 3C71, 4700 River Road Unit 118, Riverdale, MD 20737-1238. Please state that your comment refers to Docket No. 03-046-1. If you use e-mail, address your comment to regulations@aphis.usda.gov. Your comment must be contained in the body of your message; do not send attached files. Please include your name and address in your message and “Docket No. 03-046-1” on the subject line.

You may read any comments that we receive on the environmental assessment in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Dale Meyerdirk, Agriculturalist, National Biological Control Institute, PPQ, APHIS, 4700 River Road Unit 135, Riverdale, MD 20737-1236; (301) 734-5220.

SUPPLEMENTARY INFORMATION:

Background

Pigeonpea pod fly, Melanagromyza obtusa (Malloch) (Diptera: Agromyzidae), is a foreign plant pest that attacks numerous species of plants. The potential host range appears to be primarily restricted to legumes such as peas and beans, with some questionable exceptions such as okra and sesame. This pest can easily spread without detection. When the female pigeonpea pod fly punctures the legume pod and lays its eggs within, the only external evidence is varying degrees of damage caused by the punctures.

The pest is found throughout the world, including India, Ceylon, Indonesia, the Philippines, Taiwan, Thailand, Vietnam, and as far north as Japan. It also occurs in the U.S. territory of Puerto Rico. Pigeonpea pod fly is acclimated to cooler, northern climates and can tolerate dry conditions for part of the year. Therefore, suitable habitat exists throughout the United States, and the potential geographical distribution of the pigeonpea pod fly in the contiguous United States is extensive. Pigeonpea pod fly could enter the contiguous United States, Hawaii, or other U.S. territories from Puerto Rico, the Dominican Republic, or countries in the Pacific and become a serious agricultural threat to the United States.

The Animal and Plant Health Inspection Service (APHIS) has completed an environmental assessment that considers various methods of suppression of the pigeonpea pod fly that could be used in the United States. Based on our findings, we believe that the most effective alternative available is the use of biological control agents. Specifically, the parasitic Chalcid wasps of the genera Euderus, Eurytoma, and Ormyrus would be released in the United States to suppress pigeonpea pod fly. In preparation for their release into the environment, these imported biological control agents would be reared on pigeonpea pod fly in U.S. Department of Agriculture-certified insect quarantine facilities.

It is expected that the biological control agents would be introduced into areas where pigeonpea pod fly occurs and reproduce naturally without further human intervention, and that these stingless, parasitic wasps would become established throughout the eventual geographical distribution of pigeonpea pod fly in the United States. The biological characteristics of the organisms under consideration preclude any possibility of harmful effects on human health.

APHIS' review and analysis of the potential environmental impacts associated with each of the possible alternatives are documented in detail in an environmental assessment entitled “Control of Pigeonpea Pod Fly, Melanagromyza obtusa (Diptera: Agromyzidae)” (April 14, 2003). We are making this environmental assessment available to the public for review and comment. We will consider all comments that we receive on or before the date listed under the heading DATES at the beginning of this notice.

You may request copies of the environmental assessment by calling or writing to the person listed under FOR FURTHER INFORMATION CONTACT. Please refer to the title of the environmental assessment when requesting copies. The environmental assessment is also available for review in our reading room (information on the location and hours of the reading room is listed under the heading ADDRESSES at the beginning of this notice).

The environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 16th day of May 2003.
Kevin Shea,
Acting Administrator, Animal and Plant Health Inspection Service.

[FR Doc. 03-12991 Filed 5-22-03; 8:45 am]

BILLING CODE 3410-34-P